COMMISSION ON CIVIL RIGHTS

Notice of Public Meeting of the Kansas Advisory Committee for a Meeting To Discuss Civil Rights Issues in the State and Plan Future Activities

AGENCY: U.S. Commission on Civil Rights.

ACTION: Notice of meeting.

SUMMARY: Notice is hereby given, pursuant to the provisions of the rules and regulations of the U.S. Commission on Civil Rights (Commission) and the Federal Advisory Committee Act that the Kansas Advisory Committee (Committee) will hold a meeting on Wednesday, July 30, 2014, for the purpose of discussing current civil rights issues in Kansas and determining plans for the next Committee project. Members of the Advisory Committee will be presenting issues that they believe the Committee should research and issue a report to the Commission.

Members of the public are invited to make statements into the record at the meeting starting at 2:00 p.m. Member of the public are also entitled to submit written comments; the comments must be received in the regional office by August 30, 2014. Written comments may be mailed to the Central Regional Office, U.S. Commission on Civil Rights, 400 State Avenue, Suite 908, Kansas City, Kansas 66101. They may also be faxed to the Commission at (913) 551-1413, or emailed to Administrative Assistant, Corrine Sanders at csanders@usccr.gov. Persons who desire additional information may contact the Central Regional Office at (913) 551-1400.

Hearing-impaired persons who will attend the meeting and require the services of a sign language interpreter should contact the Central Regional Office at least ten (10) working days before the scheduled date of the meeting.

Records generated from this meeting may be inspected and reproduced at the Central Regional Office, as they become available, both before and after the meeting. Records of the meeting will be available via www.facadatabase.gov under the Commission on Civil Rights, Kansas Advisory Committee link. Persons interested in the work of this Committee are directed to the Commission's Web site, http://www.usccr.gov, or may contact the Central Regional Office at the above email or street address.

Agenda

Welcome and Introductions, 12:00 p.m. to 12:10 p.m., Elizabeth Kronk Warner, Chair.

Discussion of Current Civil Rights Issues in Kansas, 12:15 p.m. to 1:45 p.m., Kansas Advisory Committee Members.

Future plans and actions, 1:45 p.m. to 2:00 p.m.

Open Comment, 2:00 p.m.

DATES: The meeting will be held on Wednesday, July 30, 2014, at 12:00 p.m.

ADDRESSES: The meeting will be held at the University of Kansas School of Law, 1535 West 15th Street, Green Hall—Rice Room (512), Lawrence, Kansas 66045.

Dated: July 9, 2014.
David Mussatt,
Acting Chief, Regional Programs Coordination Unit.

[FR Doc. 2014-16408 Filed 7-11-14; 8:45 am]

BILLING CODE 6335-01-P